DEPARTMENT OF HOUSING AND URBAN DEVELOPMENT

[Docket No. FR-5481-N-13]

Notice of Proposed Information Collection: Comment Request Self-Help Homeownership Opportunity Program (SHOP)

AGENCY: Office of the Assistant Secretary for Community Planning and Development, HUD.

ACTION: Notice of proposed information collection.

SUMMARY: The proposed information collection requirement described below will be submitted to the Office of Management and Budget (OMB) for review, as required by the Paperwork Reduction Act. The Department is soliciting public comments on the subject proposal.

DATES: Comment Due Date: December 2, 2011.

ADDRESSES: Interested persons are invited to submit comments regarding this proposal. Comments should refer to the proposal by name and/or OMB Control Number and should be sent to: Rudene Thomas, Reports Liaison Officer, U.S. Department of Housing and Urban Development, 451 Seventh Street, SW., Room 7233, Washington, DC 20410-4500.

FOR FURTHER INFORMATION CONTACT: Ginger Macomber, SHOP Program Manager, Office of Affordable Housing Programs, U.S. Department of Housing and Urban Development, 451 Seventh Street, SW., Room 7162, Washington, DC 20410-4500; telephone 202-402-4605 (this is not a toll-free number) or by e-mail at ginger.macomber@hud.gov.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

The Self-Help Homeownership Opportunity Program (SHOP) is authorized by the Housing Opportunity Program Extension Act of 1996, Section 11. The purpose of SHOP is to provide grant funds to facilitate and encourage innovative homeownership opportunities on a national, geographically diverse basis through the provision of self-help homeownership housing programs. SHOP funds are appropriated by Congress, generally annually. HUD publishes a SHOP Notice of Funding Availability (NOFA) that announces the amount of SHOP grant funds and the application criteria, including the rating and ranking system HUD will use to select grantees.

SHOP grant funds may be used for land acquisition, the installation or improvement of infrastructure, and for reasonable and necessary planning, administration and management costs. The average SHOP expenditure for the combined costs of land and infrastructure must not exceed $15,000 per dwelling unit. SHOP homeowners must contribute a significant amount of sweat equity towards the purchase of their units. Donated volunteer labor is also required. Assisted units must be decent, safe, and sanitary non-luxury dwellings that comply with local building and safety codes and standards. These units must be sold to eligible low-income homebuyers at prices below the prevailing market price. The homebuyer's sweat equity contribution must not be mortgaged or otherwise restricted upon future sale of the SHOP unit. SHOP grantees may award SHOP funds to affiliates to carry out the grantee's SHOP program.

This Notice also lists the following information:

Title of Proposal: Self-Help Homeownership Opportunity Program (SHOP).

OMB Control Number: 2506-0157. Expiration Date: July 31, 2011.

Description of the Need for the Information and Proposed Use: This is a proposed information collection for submission requirements under the SHOP Notice of Funding Availability (NOFA). HUD requires information in order to ensure the eligibility of SHOP applicants and SHOP proposals, to rate and rank SHOP applications, and to select applicants for grant awards. Information is collected on an annual basis from each applicant that responds to the SHOP NOFA. The SHOP NOFA requires applicants to submit specific forms and narrative responses.

Agency Form Numbers: HUD-424, HUD-424B, HUD-424CB, HUD-2880, HUD-2990, HUD-2993, HUD-2995, HUD-9601, HUD-96011.

Members of Affected Public: National and regional non-profit self-help housing organizations (including consortia) that apply for funds in response to the SHOP NOFA.

Estimation of the total number of hours needed to prepare the information collection including number of respondents, hours per response, frequency of response, and total hours of response for all respondents.

The estimates of the average hours needed to prepare the information collection are based on information provided by previous applicants. Actual hours will vary depending on the proposed scope of the applicant's program, the applicant's geographic service area and the number of affiliate organizations. The information burden is generally greater for national organizations with numerous affiliates.

Paperwork requirement | Number of respondents | Frequency | Hours per response | Total annual hours
HUD-424 | 10 | 1 | 1 | 10
HUD-424B | 10 | 1 | .5 | 5
HUD-424CB | 10 | 1 | 10 | 10
HUD-424 CBW | 10 | 1 | 30 | 300
SF-LLL | 10 | 1 | .5 | 5
HUD-2880 | 10 | 1 | .5 | 5
HUD-2990 | 10 | 1 | 1.5 | 15
HUD-2993 | 10 | 1 | .5 | 5
HUD-2995 | 10 | 1 | .5 | 5
HUD-96010 | 10 | 1 | 20 | 200
HUD-96011 | 10 | 1 | .5 | 5
Applicant Eligibility | 10 | 1 | 10 | 100
SHOP Program Design and Scope of Work | 10 | 1 | 30 | 300
Rating Factor 1 | 10 | 1 | 25 | 250
Rating Factor 2 | 10 | 1 | 25 | 250
Rating Factor 3 | 10 | 1 | 55 | 550
Rating Factor 4 | 10 | 1 | 30 | 300
Rating Factor 5 | 10 | 1 | 25 | 250
Total Annual Hour Burden |  |  | 265.5 | 2,655

Frequency of Submission: Annually in response to the issuance of a SHOP NOFA.

Status of the proposed information collection: Extension of a currently approved collection.

Authority: Section 3506 of the Paperwork Reduction Act of 1995, 44 U.S.C. chapter 35, as amended.

Dated: September 27, 2011.
Clifford Taffet,
General Deputy Assistant Secretary for Community Planning and Development.

[FR Doc. 2011-25410 Filed 9-30-11; 8:45 am]

BILLING CODE 4210-67-P